DEPARTMENT OF STATE

[Public Notice: 12007]

Notice of Department of State Sanctions Actions

SUMMARY: The Secretary of State has imposed sanctions on two individuals.

DATES: The Secretary of State's determination regarding the two individuals, and imposition of sanctions on the individuals identified in the SUPPLEMENTARY INFORMATION section were effective on December 9, 2022.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (ii) to be responsible for or complicit in, or to have directly or indirectly engaged or attempted to engage in, any of the following for or on behalf of, or for the benefit of, directly or indirectly, the Government of the Russian Federation: (F) activities that undermine the peace, security, political stability, or territorial integrity of the United States, its allies, or its partners.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (vi) to have materially assisted, sponsored, or provided financial, material, or technological support for, or goods or services to or in support of: (B) any person whose property and interests in property are blocked pursuant to this order.

The Secretary of State has determined, pursuant to Section 1(a)(ii)(F) of E.O. 14024, Lyudmila Nikolaevna Zaitseva is responsible for or complicit in, or has directly or indirectly engaged or attempted to engage in, activities that undermine the peace, security, political stability, or territorial integrity of the United States, its allies, or its partners for or on behalf of, or for the benefit of, directly or indirectly, the Government of the Russian Federation.

The Secretary of State has determined, pursuant to Section 1(a)(vi)(B) of E.O. 14024, Ochur-Suge Terimovich Mongush has materially assisted, sponsored, or provided financial, material, or technological support for, or goods or services to or in support of Ramzan Akhmatovich Kadyrov, a person whose property and interests in property are blocked pursuant to E.O. 14024.

Pursuant to E.O. 14024 these individuals have been added to the Specially Designated Nationals and Blocked Persons List. All property and interests in property of these individuals subject to U.S. jurisdiction is blocked.

Whitney Baird,
Principal Deputy Assistant Secretary, Bureau of Economic and Business Affairs, Department of State.

[FR Doc. 2023-06091 Filed 3-23-23; 8:45 am]

BILLING CODE 4710-AE-P